NUCLEAR REGULATORY COMMISSION

Sunshine Act Meeting Notice

Agency Holding the Meeting: Nuclear Regulatory Commission.

DATE: Weeks of November 27, December 4, 11, 18, 25, 2000, and January 1, 2001.

Place: Commissioners' Conference Room, 11555 Rockville Pike, Rockville, Maryland.

Status: Public and Closed.

Matters to be Considered:

Week of November 27

Monday, November 27, 2000

8:55 a.m. Affirmation Session (Public Meeting) (tentative)

a: Power Authority of the State of New York Entergy Companies, Transfer of licenses for Indian Point 3 and FitzPatrick nuclear plants, Petitions to Intervene

b: Florida Power & Light Co., License Renewal Application for Turkey Point Units 3 and 4; Licensing Board Referral and Scheduling Order

9:00 a.m. Briefing by DOE on Plutonium Disposition Program and MOX Fuel Fabrication Facility Licensing (Public Meeting) (Contact: Drew Persinko, 301-415-6522)

This meeting will be webcast live at the Web address—

www.nrc.gov/live.html

Week of December 4—Tentative

Monday, December 4, 2000

1:55 p.m. Affirmation Session (Public Meeting) (If needed)

2:00 p.m. Briefing on License Renewal Generic Aging Lessons Learned (GALL) Report, Standard Review Plan (SRP), and Regulatory Guide (Public Meeting) (Contact: Chris Grimes, 301-415-1183

This meeting will be webcast live at the Web address—

www.nrc.gov/live.html

Week of December 11—Tentative

There are no meetings scheduled for the Week of December 11.

Week of December 18—Tentative

Wednesday, December 20, 2000

9:25 a.m. Affirmation Session (Public Meeting) (If needed)

9:30 a.m. Briefing on the Status of the Fuel Cycle Facility Oversight Program Revision (Public Meeting) (Contact: Walt Schwink, 301-415-7253)

This meeting will be webcast live at the Web address—

www.nrc.gov/live.html

Week of December 25—Tentative

There are no meetings scheduled for the Week of December 25.

Week of January 1, 2001

There are no meetings scheduled for the Week of January 1, 2001.

*THE SCHEDULE FOR COMMISSION MEETINGS IS SUBJECT TO CHANGE ON SHORT NOTICE. TO VERIFY THE STATUS OF MEETINGS CALL (RECORDING)—(301) 415-1292. CONTACT PERSON FOR MORE INFORMATION: Bill Hill (301) 415-1661.

The NRC Commission Meeting Schedule can be found on the Internet at:

http://www.nrc.gov/SECY/smj/schedule.htm

This notice is distributed by mail to several hundred subscribers; if you no longer wish to receive it, or would like to be added to it, please contact the Office of the Secretary, Attn: Operations Branch, Washington, DC 20555 (301-415-1661). In addition, distribution of this meeting notice over the Internet system is available. If you are interested in receiving this Commission meeting schedule electronically, please send an electronic message to wmh@hrc.gov or dkw@nrc.gov.

Dated: November 24, 2000.
William M. Hill, Jr.,
SECY Tracking Officer, Office of the Secretary.

[FR Doc. 00-30465 Filed 11-27-00; 10:45 am]

BILLING CODE 7590-01-M